DEPARTMENT OF ENERGY

Federal Energy Regulatory Commission

18 CFR Part 157

[Docket No. RM98-9-000, Order No. 603]

Revision of Existing Regulations Under Part 157 and Related Sections of the Commission's Regulations Under the Natural Gas Act; Correction

Issued March 13, 2001.

AGENCY: Federal Energy Regulatory Commission, DOE.

ACTION: Technical amendment.

SUMMARY: In Order No. 603 published in the Federal Register on May 14, 1999 (64 FR 26571) the Federal Energy Regulation Commission inadvertently removed a paragraph of the Commission's regulations that required that a company report changes in rate schedules authorized under the Commission's regulations. This technical notice corrects the previous error by amending the regulations to add the removed paragraph.

DATES: Effective March 19, 2001.

FOR FURTHER INFORMATION CONTACT:

Michael J. McGehee, Office of Pipeline Regulation, Federal Energy Regulatory Commission, 888 First Street, NE., Washington, DC 20426, (202) 208-2257.

Carolyn Van Der Jagt, Office of the General Counsel, Federal Energy Regulatory Commission, 888 First Street, NE., Washington, DC 20426, (202) 208-2246.

SUPPLEMENTARY INFORMATION:

List of Subjects in 18 CFR Part 157

Administrative practice and procedure, Natural gas, Reporting and record keeping requirements.

In consideration of the foregoing, the Commission amends Part 157, Chapter I, Title 18, Code of Federal Regulations, as follows.

PART 157—APPLICATIONS FOR CERTIFICATES OF PUBLIC CONVENIENCE AND NECESSITY AND FOR ORDERS PERMITTING AND APPROVING ABANDONMENT UNDER SECTION 7 OF THE NATURAL GAS ACT

1. The authority for Part 157 continues to read as follows:

Authority: 15 U.S.C. 717-717w, 3301-3432; 42 U.S.C. 7101-7352.

2. In § 157.207, paragraphs (f) and (g) are redesignated as (g) and (h), respectively, and a new paragraph (f) is added to read as follows:

§ 157.207 General reporting requirements.

* * * * *

(f) For each change in rate schedule authorized under § 157.217, the information specified in § 157.217(b);

* * * * *

David P. Boergers,
Secretary.

[FR Doc. 01-6654 Filed 3-16-01; 8:45 am]

BILLING CODE 6717-01-P